INTERNATIONAL TRADE COMMISSION

[Investigation No. 731-TA-1359 (Final)]

Carton-Closing Staples From China

Determination

On the basis of the record ¹ developed in the subject investigation, the United States International Trade Commission (“Commission”) determines, pursuant to the Tariff Act of 1930 (“the Act”), that an industry in the United States is materially injured by reason of imports of carton-closing staples from China that have been found by the U.S. Department of Commerce (“Commerce”) to be sold in the United States at less than fair value (“LTFV”).2 3

¹ The record is defined in sec. 207.2(f) of the Commission's Rules of Practice and Procedure (19 CFR 207.2(f)).

² Carton-Closing Staples From the People's Republic of China: Final Affirmative Determination of Sales at Less Than Fair Value, 83 FR 13236 (March 28, 2018).

³ Commissioner Kearns not participating.

Background

The Commission, pursuant to section 735(b) of the Act (19 U.S.C. 1673d(b)), instituted this investigation effective March 31, 2017, following receipt of a petition filed with the Commission and Commerce by North American Steel & Wire, Inc./ISM Enterprises. The Commission scheduled the final phase of the investigation following notification of a preliminary determination by Commerce that imports of carton-closing staples from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of November 15, 2017 (82 FR 52939). The hearing was held in Washington, DC, on Tuesday, March 13, 2018, and all persons who requested the opportunity were permitted to appear in person or by counsel.

The Commission made this determination pursuant to section 735(b) of the Act (19 U.S.C. 1673d(b)). It completed and filed its determination in this investigation on Monday, April 30, 2018. The views of the Commission are contained in USITC Publication 4778 (April 2018), entitled Carton-Closing Staples from China: Investigation No. 731-TA-1359 (Final).

By order of the Commission.
Issued: April 30, 2018.
Lisa Barton,
Secretary to the Commission.

[FR Doc. 2018-09422 Filed 5-3-18; 8:45 am]

BILLING CODE 7020-02-P